DEPARTMENT OF HEALTH AND HUMAN SERVICES

Office of the Assistant Secretary for Planning and Evaluation; Technical Review Panel on the Medicare Trustees Reports; Notice of July 26-27 Meeting

AGENCY: Office of the Assistant Secretary for Planning and Evaluation, HHS.

ACTION: Notice of July 26-27 meeting.

SUMMARY: In accordance with section 10(a) of the Federal Advisory Committee Act, this notice announces the second meeting of the Technical Review Panel on the Medicare Trustees Reports (the Panel). This meeting is open to the public.

Pursuant to Public Law 92-463 (the Federal Advisory Committee Act), the Panel was established on August 12, 1999, by the Secretary of HHS to review the methods and assumptions underlying the annual reports of the Board of Trustees of the Hospital Insurance and Supplementary Medical Insurance Trust Funds.

DATES: The meeting will be held on Wednesday, July 26, 2000 (9:00 a.m. to 5:00 p.m.) and Thursday, July 27, 2000 (9:00 a.m. to 1:00 p.m.).

ADDRESSES: The meeting will be held at the Health Care Financing Administration (HCFA) Headquarters, 7500 Security Boulevard, Baltimore, Maryland.

FOR FURTHER INFORMATION CONTACT: Ariel Winter, Executive Director, Technical Review Panel on the Medicare Trustees Reports, Department of Health and Human Services, Room 442E, 200 Independence Avenue, SW., Washington, DC, 20201, (202) 690-6860, medpanel@osaspe.dhhs.gov.

Additional information is also available on the Panel's web site: http://aspe.hhs.gov/health/medpanel.htm.

SUPPLEMENTARY INFORMATION: The Board of Trustees of the Medicare Trust Funds (the Hospital Insurance (HI) and Supplementary Medical Insurance (SMI) Trust Funds) reports annually on the funds' financial condition. The reports describe the trust funds' current and projected financial condition, within the next 10 years (the short term) and over the subsequent 65 years (the long term). The Medicare Board of Trustees has directed the Secretary of Health and Human Services (one of the Trustees) to establish a panel of technical experts to review the assumptions and methods underlying the HI and SMI annual reports.

The panel's review will include the following four topics:

1. Medicare assumptions (e.g., utilization rates, medical price increases).

2. Projection methodology (how assumptions are used to make cost projections).

3. Long-range growth assumptions for HI and SMI.

4. Use of stochastic forecasting techniques.

The Panel will issue its findings in reports to the Secretary and the other Trustees.

The Panel consists of six members who are experts in the fields of economics and actuarial science: Dale Yamamoto, F.S.A., M.A.A.A., F.C.C.A., E.A., B.S.—Chair; Len Nichols, Ph.D.; David Cutler, Ph.D.; Michael Chernew, Ph.D.; James Robinson, F.S.A., M.A.A.A., Ph.D.; Alice Rosenblatt, F.S.A., M.A.A.A., M.A. The members' terms will end August 12, 2001. Sam Gutterman, F.S.A., F.C.A.S., M.A.A.A., M.A., is a consultant to the Panel.

The second meeting of the Panel is scheduled for July 26, 2000 (9:00 a.m. to 5:00 p.m.), and July 27, 2000 (9:00 a.m. to 1:00 p.m.). The meeting will be held at the Health Care Financing Administration (HCFA) Headquarters, 7500 Security Boulevard, Baltimore, Maryland. The meeting is open to the public, but attendance is limited to the space available. The Panel's first meeting was held June 28-29, 2000.

At this meeting, the Panel will hear presentations from HCFA's Office of the Actuary on measures of actuarial soundness of the Medicare Trust Funds, specific health care utilization assumptions, and stochastic forecasting techniques used to make Trust Funds projections. The Panel will continue its discussions with Office of the Actuary staff on issues raised at the first meeting, such as the Trust Funds' benefits models. The Panel will also consider how to continue its analyses.

Individuals or organizations that wish to make 5-minute oral presentations on the agenda issues mentioned in this notice should contact the Executive Director by 12 noon on July 19, 2000. The number of oral presentations may be limited to the time available. A written copy of the presenters' oral remarks should be submitted to the Executive Director no later than 12 noon, July 19, 2000, for distribution to the Panel members.

Any interested member of the public may submit written comments to the Executive Director and Panel members for review. Comments should be received by the Executive Director by 12 noon, July 19, 2000, for distribution to the Panel members.

Individuals requiring sign language interpretation for the hearing impaired and/or other special accommodation, should contact Ariel Winter at (202) 690-6860 by July 17, 2000.

Dated: July 5, 2000.
Margaret A. Hamburg,
Assistant Secretary for Planning and Evaluation.

[FR Doc. 00-17518 Filed 7-10-00; 8:45 am]

BILLING CODE 4110-60-P